COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and a service to be furnished by nonprofit agencies employing persons who are blind or have other severe disabilities, and deletes from the Procurement List a product and services previously furnished by such agencies.

DATES: Effective Date: January 16, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On October 15, and October 22, 2004, the Committee for Purchase From People Who Are Blind or Severely Disabled published notice (69 FR 61202 and 62020) of proposed additions to the Procurement List.

After consideration of the material presented to it concerning capability of qualified nonprofit agencies to provide the products and services and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: Cup, Drinking, Styrofoam, M.R. 537.

NPA: The Oklahoma League for the Blind, Oklahoma City, Oklahoma.

Contracting Activity: Defense Commissary Agency (DeCA), Fort Lee, Virginia.

Product/NSN: Lightsticks (Chemlights)

6260-00-106-7478 (4″—Green)

6260-01-230-8601 (6″—Red-HI)

6260-01-074-4229 (6″—Green)

6260-01-074-4230 (6″—Yellow-HI)

6260-01-178-5559 (6″—Red)

6260-01-178-5560 (6″—Blue)

6260-01-195-9753 (6″—Orange)

6260-01-196-0136 (6″—Yellow)

6260-01-218-5146 (6″—White)

6260-01-247-0362 (15″—Green)

6260-01-247-0363 (6″—Orange/Ultra HI)

6260-01-247-0367 (15″—White)

6260-01-247-0368 (6″—White-HI)

6260-01-265-0612 (15″—Red)

6260-01-265-0613 (15″—Yellow)

6260-01-265-0614 (15″—Blue)

6260-01-282-7630 (4″—Orange)

NPA: L.C. Industries For The Blind, Inc., Durham, North Carolina.

Contract Activity: Defense Supply Center Philadelphia, Philadelphia, Pennsylvania.

Service

Service Type/Location: Custodial Services, USDA, Laboratory Research Building, 6301 W. 750 North, West Lafayette, Indiana.

NPA: Wabash Center, Inc., Lafayette, Indiana.

Contracting Activity: USDA, Agriculture Research Service, Peoria, Illinois.

Deletions

On October 22, 2004, the Committee for Purchase From People Who Are Blind or Severely Disabled published notice (69 FR 62020/21) of proposed deletions to the Procurement List. After consideration of the relevant matter presented, the Committee has determined that the product and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

Product/NSN: Paper, Looseleaf, Blank, 7530-00-286-5782.

NPA: Alabama Industries for the Blind, Talladega, Alabama.

Contracting Activity: Office Supplies & Paper Products Acquisition Center, New York, NY.

Services

Service Type/Location: Janitorial/Custodial, U.S. Federal Building and Post Office, 104 West Magnolia, Bellingham, Washington.

NPA: Cascade Christian Services, Bellingham, Washington.

Contracting Activity: General Services Administration.

Service Type/Location: Janitorial/Custodial, U.S. Post Office and Courthouse, Vicksburg, Mississippi.

NPA: Warren County Association for Retarded Citizens, Inc., Vicksburg, Mississippi.

Contracting Activity: General Services Administration.

Sheryl D. Kennerly,
Director, Information Management.

[FR Doc. 04-27658 Filed 12-16-04; 8:45 am]

BILLING CODE 6353-01-P